DEPARTMENT OF TRANSPORTATION

Federal Aviation Administration

14 CFR Part 39

[Docket No. FAA-2011-0221; Directorate Identifier 2010-NM-120-AD; Amendment 39-16805; AD 2011-18-23]

RIN 2120-AA64

Airworthiness Directives; The Boeing Company Airplanes

AGENCY: Federal Aviation Administration (FAA), DOT.

ACTION: Final rule.

SUMMARY: We are adopting a new airworthiness directive (AD) for all The Boeing Company Model DC-8-11, DC-8-12, DC-8-21, DC-8-31, DC-8-32, DC-8-33, DC-8-41, DC-8-42, and DC-8-43 airplanes; Model DC-8-50 series airplanes; Model DC-8F-54 and DC-8F-55 airplanes; Model DC-8-60 series airplanes; Model DC-8-60F series airplanes; Model DC-8-70 series airplanes; and Model DC-8-70F series airplanes. This AD requires repetitive high frequency eddy current or repetitive low frequency eddy current inspections for cracks on the area around certain fasteners of the access opening doubler on the left and right wing center spar lower cap, and repair, if necessary. This AD was prompted by reports that cracks in the center spar lower cap and, in some cases, the web of the spar, have been found at stations Xrs = 168.00, Xrs = 251.00, and Xrs = 358.00. We are issuing this AD to detect and correct cracks in the area around certain fasteners of the access opening doubler on the left and right wing center spar lower cap, which could compromise the structural integrity of the wing structure.

DATES: This AD is effective October 25, 2011.

The Director of the Federal Register approved the incorporation by reference of certain publications listed in the AD as of October 25, 2011.

ADDRESSES: For service information identified in this AD, contact Boeing Commercial Airplanes, Attention: Data & Services Management, 3855 Lakewood Boulevard, MC D800-0019, Long Beach, California 90846-0001; telephone 206-544-5000, extension 2; fax 206-766-5683; e-mail dse.boecom@boeing.com; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE., Washington, DC 20590.

FOR FURTHER INFORMATION CONTACT: Dara Albouyeh, Aerospace Engineer, Airframe Branch, ANM-120L, FAA, Los Angeles Aircraft Certification Office (ACO), 3960 Paramount Boulevard, Lakewood, California 90712-4137; phone: (562) 627-5222; fax: (562) 627-5210; e-mail: dara.albouyeh@faa.gov.

SUPPLEMENTARY INFORMATION:

Discussion

We issued a notice of proposed rulemaking (NPRM) to amend 14 CFR part 39 to include an airworthiness directive (AD) that would apply to the specified products. That NPRM published in the Federal Register on March 15, 2011 (76 FR 13926). That NPRM proposed to require repetitive high frequency eddy current or repetitive low frequency eddy current inspections for cracks on the area around certain fasteners of the access opening doubler on the left and right wing center spar lower cap, and repair, if necessary.

Comments

We gave the public the opportunity to participate in developing this AD. The following presents the comment received on the proposal and the FAA's response to each comment.

Request To Revise Paragraph (h)(3) of the NPRM

Boeing requested that we revise paragraph (h)(3) of the NPRM (76 FR 13926, March 15, 2011) to refer to “Method 101 and 104,” instead of “Method 101 or 104.” Boeing explained that Methods 101 and 104 should be used when using Section 57-10-16 of the McDonnell Douglas DC-8 Supplemental Inspection Document (SID) Report L26-011, Volume II, Revision 8, dated January 2005. Boeing stated that “Method 101 and 104” is correctly referenced in the service information.

We agree. We have clarified the reference as “Methods 101 and 104” in paragraph (h)(3) of the final rule for the reasons stated by Boeing.

Conclusion

We reviewed the relevant data, considered the comment received, and determined that air safety and the public interest require adopting the AD with the change described previously.

We also determined that this change will not increase the economic burden on any operator or increase the scope of the AD.

Costs of Compliance

We estimate that this AD would affect 41 airplanes of U.S. registry. We also estimate that it will take 12 work-hours per product to comply with this AD. The average labor rate is $85 per work-hour. Based on these figures, we estimate the cost of this AD to the U.S. operators to be $41,820, or $1,020 per product.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2011-18-23 The Boeing Company: Amendment 39-16805; Docket No. FAA-2011-0221; Directorate Identifier 2010-NM-120-AD.

Effective Date

(a) This AD is effective October 25, 2011.

Affected ADs

(b) This AD affects certain requirements of AD 2008-25-05, Amendment 39-15763 (73 FR 78936, December 24, 2008).

Applicability

(c) This AD applies to all The Boeing Company Model DC-8-11, DC-8-12, DC-8-21, DC-8-31, DC-8-32, DC-8-33, DC-8-41, DC-8-42, DC-8-43, DC-8-51, DC-8-52, DC-8-53, DC-8-55, DC-8F-54, DC-8F-55, DC-8-61, DC-8-62, DC-8-63, DC-8-61F, DC-8-62F, DC-8-63F, DC-8-71, DC-8-72, DC-8-73, DC-8-71F, DC-8-72F, and DC-8-73F airplanes, certificated in any category.

Subject

(d) Air Transport Association (ATA) of America Code 57: Wings.

Unsafe Condition

(e) This AD was prompted by reports that cracks in the center spar lower cap and, in some cases, the web of the spar, have been found at stations Xrs = 168.00, Xrs = 251.00, and Xrs = 358.00. The Federal Aviation Administration is issuing this AD to detect and correct cracks in the area around certain fasteners of the access opening doubler on the left and right wing center spar lower cap, which could compromise the structural integrity of the wing structure.

Compliance

(f) You are responsible for having the actions required by this AD performed within the compliance times specified, unless the actions have already been done.

Inspection

(g) Before the accumulation of 20,000 total flight cycles, or within 3,000 flight cycles after the effective date of this AD, whichever occurs later, do a high frequency eddy current (HFEC) or low frequency eddy current (LFEC) inspection for cracks on the area around certain fasteners of the access opening doubler on the left and right wing center spar lower cap, in accordance with the Accomplishment Instructions of Boeing Alert Service Bulletin DC8-57A103, dated May 5, 2010. If no crack is found, repeat the inspection thereafter at the applicable interval specified in paragraph 1.E., “Compliance” of Boeing Alert Service Bulletin DC8-57A103, dated May 5, 2010.

Repair

(h) If any crack is found during any inspection required by paragraph (g) of this AD, do the actions specified in paragraphs (h)(1), (h)(2), and (h)(3) of this AD.

(1) Before further flight, repair the crack in accordance with Boeing Alert Service Bulletin DC8-57A103, dated May 5, 2010.

(2) Within 6,000 flight cycles after doing the most recent HFEC inspection, or within 1,750 flight cycles after doing the most recent LFEC inspection; as applicable; do the inspection specified in paragraph (g) of this AD of the non-repaired area, and repeat the inspection of the non-repaired area thereafter at the applicable time in paragraph 1.E. “Compliance,” of Boeing Alert Service Bulletin DC8-57A103, dated May 5, 2010.

(3) Within the applicable times specified in paragraph 1.E. “Compliance,” of Boeing Alert Service Bulletin DC8-57A103, dated May 5, 2010, do the inspections of the repaired area, using the inspection defined in Method 101 of Section 57-10-06, “Lower Center Space Cap Flanges (FWD & AFT) from STA Xrs = 100 to 290,” or Methods 101 and 104 of Section 57-10-16, “Lower Center Space Cap Flanges (FWD & AFT) from STA Xrs = 100 to 290,” of the McDonnell Douglas DC-8 Supplemental Inspection Document (SID), Report L26-011, Volume II, Revision 8, dated January 2005, as applicable. Repeat the inspection thereafter at the applicable intervals specified in paragraph 1.E., “Compliance,” of Boeing Alert Service Bulletin DC8-57A103, dated May 5, 2010. If any crack is found, before further flight, repair the crack using a method approved in accordance with the procedures specified in paragraph (j) of this AD.

(i) The inspections required by paragraph (h)(3) of this AD constitute compliance with paragraph (j) of AD 2008-25-05 for the repaired area. All requirements of AD 2008-25-05 that are not specifically referenced in this paragraph remain fully applicable and require compliance.

Alternative Methods of Compliance (AMOCs)

(j)(1) The Manager, Los Angeles Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) To request a different method of compliance or a different compliance time for this AD, follow the procedures in 14 CFR 39.19. Before using any approved AMOC, notify your appropriate principal inspector, or lacking a principal inspector, the manager of the local flight standards district office/certificate holding district office. The AMOC approval letter must specifically reference this AD.

(3) An AMOC that provides an acceptable level of safety may be used for any repair required by this AD if it is approved by the Boeing Commercial Airplanes Organization Designation Authorization (ODA) that has been authorized by the Manager, Los Angeles ACO to make those findings. For a repair method to be approved, the repair must meet the certification basis of the airplane and 14 CFR 25.571, Amendment 45, and the approval must specifically refer to this AD.

Related Information

(k) For more information about this AD, contact Dara Albouyeh, Aerospace Engineer, Airframe Branch, ANM-120L, FAA, Los Angeles ACO, 3960 Paramount Boulevard, Lakewood, California 90712-4137; phone: (562) 627-5222; fax: (562) 627-5210; e-mail: dara.albouyeh@faa.gov.

Material Incorporated by Reference

(l) You must use Boeing Alert Service Bulletin DC8-57A103, dated May 5, 2010; and McDonnell Douglas DC-8 Supplemental Inspection Document (SID), Report L26-011, Volume II, Revision 8, dated January 2005; as applicable; to do the actions required by this AD, unless the AD specifies otherwise. The current revision of the McDonnell Douglas DC-8 SID, Report L26-011, Volume II, Revision 8, dated January 2005, is specified on only the title page and List of Effective Pages of the document; the cover page of this document does not specify a revision of date.

(1) The Director of the Federal Register approved the incorporation by reference of this service information under 5 U.S.C. 552(a) and 1 CFR part 51.

(2) For service information identified in this AD, contact Boeing Commercial Airplanes, Attention: Data & Services Management, 3855 Lakewood Boulevard, MC D800-0019, Long Beach, California 90846-0001; telephone 206-544-5000, extension 2; fax 206-766-5683; e-mail dse.boecom@boeing.com; Internet https://www.myboeingfleet.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at an NARA facility, call 202-741-6030, or go to http://www.archives.gov/federal_register/code_of_federal_regulations/ibr_locations.html.

Issued in Renton, Washington, on August 25, 2011.
Ali Bahrami,
Manager, Transport Airplane Directorate, Aircraft Certification Service.

[FR Doc. 2011-23709 Filed 9-19-11; 8:45 am]

BILLING CODE 4910-13-P